DEPARTMENT OF TRANSPORTATION

Federal Aviation Administration

14 CFR Part 39

[Docket No. FAA-2006-23604, Directorate Identifier 2005-NE-49-AD; Amendment 39-14498; AD 2006-05-01]

RIN 2120-AA64

Airworthiness Directives; Rolls-Royce plc RB211 Trent 500, 700 and 800 Series Turbofan Engines

AGENCY: Federal Aviation Administration (FAA), Department of Transportation (DOT).

ACTION: Final rule; request for comments.

SUMMARY: The FAA is adopting a new airworthiness directive (AD) for Rolls-Royce plc (RR) RB211 Trent 500, 700, and 800 series turbofan engines. This AD requires inspecting all engines to determine those that are equipped with a suspect oil filler cap assembly. This AD also requires, within seven days of the effective date of this AD, an initial and repetitive check of oil cap security following oil servicing of multiple-engine airplanes having more than one suspect oil filler cap assembly installed. Finally, this AD requires replacing affected oil filler cap assemblies. This AD results from four in-service oil loss events since March 2005, following failures to properly install the oil tank filler cap after oil servicing. We are issuing this AD to prevent oil loss that could result in multiple engine in-flight shutdowns during a flight.

DATES: Effective March 16, 2006.

We must receive any comments on this AD by May 1, 2006.

ADDRESSES: Use one of the following addresses to comment on this AD:

• DOT Docket web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: The European Aviation Safety Agency (EASA), on behalf of the United Kingdom, recently notified us that an unsafe condition might exist on RR RB211 Trent 500, 700, and 800 series turbofan engines. EASA advises that four in-service oil loss events have occurred since March 2005, after failures to properly install the oil tank filler cap after oil servicing. An unseated O-ring compromised the secondary sealing feature (flap valve) of the oil tank filler assembly, which would have prevented significant loss of oil on these engines during flight. The manufacturer omitted an optional notch on the O-ring locating slot of the filler cap. They have since determined that omitting the notch can cause the O-ring to unseat during flight. The manufacturer has identified a suspect group of affected oil filler cap assemblies that must be replaced. We are issuing this AD to prevent oil loss that could result in multiple engine in-flight shutdowns during a flight.

Bilateral Airworthiness Agreement

These RR RB211 Trent 500, 700, and 800 series engines are manufactured in the United Kingdom and are type certificated for operation in the United States under the provisions of section 21.29 of the Federal Aviation Regulations (14 CFR 21.29) and the applicable bilateral airworthiness agreement. Under this bilateral airworthiness agreement, EASA kept the FAA informed of the situation described above. We have examined the findings of the EASA, reviewed all available information, and determined that AD action is necessary for products of this type design that are certificated for operation in the United States.

FAA's Determination and Requirements of This AD

Although no airplanes that are registered in the United States use these engines, the possibility exists that the engines could be used on airplanes that are registered in the United States in the future. The unsafe condition described previously is likely to exist or develop on other RR RB211 Trent 500, 700, and 800 series engines of the same type design. We are issuing this AD to prevent oil loss that could result in multiple engine in-flight shutdowns. This AD requires inspection of all engines to determine those that are equipped with a suspect oil filler cap assembly. This AD also requires, within seven days of the effective date of this AD, an initial and repetitive check of oil cap security following oil servicing of multiple-engine airplanes having more than one suspect oil filler cap assembly installed. Finally, this AD requires replacement of the suspect group of oil filler cap assemblies. You must use the service information described previously to perform the actions required by this AD.

FAA's Determination of the Effective Date

Since there are currently no domestic operators of this engine model, notice and opportunity for public comment before issuing this AD are unnecessary. A situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2006-23604; Directorate Identifier 2005-NE-49-AD” in the subject line of your comments. We specifically invite comments on the overall regulatory, economic, environmental, and energy aspects of the rule that might suggest a need to modify it. We will post all comments we receive, without change, to http://dms.dot.gov, including any personal information you provide. We will also post a report summarizing each substantive verbal contact with FAA personnel concerning this AD. Using the search function of the DMS web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government. For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-05-01 Rolls-Royce plc: Amendment 39-14498. Docket No. FAA-2006-23604; Directorate Identifier 2005-NE-49-AD.

Effective Date

(a) This airworthiness directive (AD) becomes effective March 16, 2006.

Affected ADs

(b) None.

Applicability

(c) This AD applies to Rolls-Royce plc RB211 Trent 553-61, 556B-61, 556-61, 560-61, 553A2-61, 556A2-61, 556B2-61, 560A2-61, 768-60, 772-60, 772B-60, 892-17, 884-17, 892B-17, 895-17, 675-17, 884B-17, and 877-17 turbofan engines with oil filler cap assembly part number (P/N) 436-408-2 and serial numbers (SNs) 1156 through 1410 not marked with the letter “R” next to the SN. These engines are installed on, but not limited to, Airbus A340-541, A340-642, A330-243, A330-341, A330-342, and Boeing 777 airplanes.

Unsafe Condition

(d) This AD results from four in-service oil loss events since March 2005, following failures to properly install the oil tank filler cap after oil servicing. We are issuing this AD to prevent oil loss that could result in multiple engine in-flight shutdowns during a flight.

Compliance

(e) You are responsible for having the actions required by this AD performed within the compliance times specified unless the actions have already been done.

Identification of Affected Engines

(f) Identify all engines with oil filler cap assembly, P/N 436-408-2, and SNs 1156 through 1410, not marked with the letter “R” next to the SN.

Independent Inspection

(g) Within seven days after the effective date of this AD, conduct an independent inspection for security of the oil filler cap after oil servicing on any airplane with more than one of the affected oil filler cap assemblies installed.

(h) Repeat the inspection after every oil servicing.

Replacement of Affected Oil Filler Cap Assemblies

(i) Replace affected oil filler cap assemblies as follows:

(1) For Trent 768-60, 772-60, 772B-60, 892-17, 884-17, 892B-17, 895-17, 675-17, 884B-17, and 877-17 turbofan engines with two affected oil filler cap assemblies on the same airplane, replace one oil filler cap assembly within 75 days after the effective date of this AD, and the other within 165 days after the effective date of this AD.

(2) For Trent 553-61, 556B-61, 556-61, 560-61, 553A2-61, 556A2-61, 556B2-61, 560A2-61 turbofan engines in position 1 or 4, replace the affected oil filler cap assemblies within 75 days after the effective date of this AD, and

(3) For Trent 553-61, 556B-61, 556-61, 560-61, 553A2-61, 556A2-61, 556B2-61, 560A2-61 engines in position 2 or 3, replace the affected oil filler cap assemblies within 165 days after the effective date of this AD.

Definition

(j) For the purposes of this AD, an “independent inspection” means inspection and confirmation by a qualified person who was not involved in the original oil servicing.

Alternative Methods of Compliance

(k) The Manager, Engine Certification Office, has the authority to approve alternative methods of compliance for this AD if requested using the procedures found in 14 CFR 39.19.

Related Information

(l) Information on replacing the oil filler cap can be found in Rolls-Royce Alert Non Modification Service Bulletin RB.211-79-AE964, dated October 13, 2005.

(m) EASA airworthiness directive 2005-0025, dated October 26, 2005, also addresses the subject of this AD.

Issued in Burlington, Massachusetts, on February 22, 2006.
Peter A. White,
Acting Manager, Engine and Propeller Directorate, Aircraft Certification Service.

[FR Doc. 06-1827 Filed 2-28-06; 8:45 am]

BILLING CODE 4910-13-P